DEPARTMENT OF COMMERCE

International Trade Administration

[A-580-914]

Superabsorbent Polymers From the Republic of Korea: Postponement of Preliminary Determination in the Less-Than-Fair-Value Investigation

AGENCY: Enforcement and Compliance, International Trade Administration, Department of Commerce.

DATES: Applicable March 28, 2022.

FOR FURTHER INFORMATION CONTACT: Charles DeFilippo or Elfi Blum, AD/CVD Operations, Office VII, Enforcement and Compliance, International Trade Administration, U.S. Department of Commerce, 1401 Constitution Avenue NW, Washington, DC 20230; telephone: (202) 482-3979 or (202) 482-0197, respectively.

SUPPLEMENTARY INFORMATION:

Background

On November 22, 2021, the Department of Commerce (Commerce) initiated a less-than-fair-value (LTFV) investigation of imports of certain superabsorbent polymers (SAP) from Korea.¹ Currently, the preliminary determination is due no later than April 11, 2022.

¹ See Certain Superabsorbent Polymers from the Republic of Korea: Initiation of Less-Than-Fair Value Investigation, 86 FR 67915 (November 30, 2021) (Initiation Notice).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Ad Hoc Coalition of American SAP Producers.

On March 14, 2022, the petitioner submitted a timely request that Commerce postpone the preliminary determination in the LTFV investigation.³ The petitioner stated that it requests postponement because it has identified deficiencies in the respondent's questionnaire responses that should be addressed in advance of the preliminary determination, and so Commerce can issue supplemental questionnaires to the respondent and develop the record regarding these deficiencies.⁴

³ See Petitioner`s Letter, “Certain Superabsorbent Polymers from the Republic of Korea—Petitioner's Request for Postponement of Preliminary Determination,” dated March 14, 2022.

⁴ Id.

For the reasons stated above, and because there are no compelling reasons to deny the request, Commerce, in accordance with section 733(c)(1)(A) of the Act, is postponing the deadline for the preliminary determination by 50 days (i.e., 190 days after the date on which this investigation was initiated). As a result, Commerce will issue its preliminary determination no later than May 31, 2022. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: March 22, 2022.
Lisa W. Wang,
Assistant Secretary for Enforcement and Compliance.

[FR Doc. 2022-06402 Filed 3-25-22; 8:45 am]

BILLING CODE 3510-DS-P